SECURITIES AND EXCHANGE COMMISSION

[File No. 500-1]

Atchison Casting Corp. (n/k/a Bradken-Atchison/St. Joseph, Inc.), CityFed Financial Corp., Divine, Inc. (n/k/a Enivid, Inc.), Genesis Worldwide, Inc., Hampton Consulting Corp., and Jake's Pizza International, Inc.; Order of Suspension of Trading

August 12, 2010.

It appears to the Securities and Exchange Commission that there is a lack of current and accurate information concerning the securities of Atchison Casting Corp. (n/k/a Bradken-Atchison/St. Joseph, Inc.) because it has not filed any periodic reports since the period ended March 31, 2003.

It appears to the Securities and Exchange Commission that there is a lack of current and accurate information concerning the securities of CityFed Financial Corp. because it has not filed any periodic reports since the period ended March 31, 2006.

It appears to the Securities and Exchange Commission that there is a lack of current and accurate information concerning the securities of Divine, Inc. (n/k/a Enivid, Inc.) because it has not filed any periodic reports since the period ended September 30, 2002.

It appears to the Securities and Exchange Commission that there is a lack of current and accurate information concerning the securities of Genesis Worldwide, Inc. because it has not filed any periodic reports since the period ended June 30, 2001.

It appears to the Securities and Exchange Commission that there is a lack of current and accurate information concerning the securities of Hampton Consulting Corp. because it has not filed any periodic reports since the period ended June 30, 2004.

It appears to the Securities and Exchange Commission that there is a lack of current and accurate information concerning the securities of Jake's Pizza International, Inc. because it has not filed any periodic reports since the period ended June 30, 1997.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 12, 2010, through 11:59 p.m. EDT on August 25, 2010.

By the Commission.
Jill M. Peterson,
Assistant Secretary.

[FR Doc. 2010-20259 Filed 8-12-10; 11:15 am]

BILLING CODE 8010-01-P